DEPARTMENT OF COMMERCE

National Oceanic and Atmospheric Administration

50 CFR Part 224

[I.D. 072600A]

Endangered and Threatened Species; Re-opening of Comment Period and Notice of Public Hearing on Proposed Range Extension for Endangered Steelhead in Southern California

AGENCY: National Marine Fisheries Service (NMFS), National Oceanic and Atmospheric Administration (NOAA), Commerce.

ACTION: Proposed rule; public hearing and re-opening of public comment period.

SUMMARY: NMFS is re-opening the public comment period for, and has scheduled a public hearing on, the proposal to extend the current range of endangered steelhead in southern California. NMFS has received several requests for a public hearing that would allow further opportunity for the public to participate in an exchange of information among interested parties and to provide oral and written testimony on the proposal. NMFS has determined that these requests are reasonable and has scheduled a public hearing and re-opened the public comment period to facilitate the receipt of the public’s views on the proposal.

DATES: A public hearing is scheduled in San Clemente, California on March 12, 2001, from 6 p.m. to 9 p.m. Written comments on the proposed range extension must be received by March 22, 2001.

ADDRESSES: The public hearing will be held at the City of San Clemente’s Community Center Auditorium which is located at 100 N. Calle Seville in San Clemente, CA. Written comments on the proposed range extension and requests for reference materials should be sent to the Assistant Regional Administrator, Protected Resources Division, NMFS, Southwest Region, 501 West Ocean Blvd., Suite 4200, Long Beach, CA 90802-4213.

FOR FURTHER INFORMATION CONTACT: Craig Wingert, (562) 980-4021, or Chris Mobley, (301) 713-1401. Copies of the Federal Register documents cited herein and additional salmon-related materials are available via the Internet at www.nwr.noaa.gov.

SUPPLEMENTARY INFORMATION:

Background

In August 1997, NMFS listed the Southern California steelhead Evolutionarily Significant Unit (ESU) as an endangered species and defined its southern limit as Malibu Creek in Los Angeles County, CA, based on the information available at that time. On December 19, 2000, (65 FR 79328), NMFS issued a proposed rule to extend the current range of the Southern California steelhead ESU southward to include the population of steelhead recently found in San Mateo Creek which is located in northern San Diego County. This proposal was based on recent information indicating that steelhead had been found in two coastal river watersheds south of Malibu Creek, and had successfully spawned in San Mateo Creek. Within this redefined Southern California steelhead ESU, NMFS proposed to list naturally spawned steelhead and their progeny which reside below naturally occurring and man-made barriers.

NMFS did not announce any public hearings in its December 19, 2000 (65 FR 79328) proposal, but did indicate that it would consider requests for hearings received by February 2, 2001. In late January 2001, NMFS received several requests for a public hearing to be held on this proposal. Requests for a public hearing were received from California Trout, the California Native Plant Society, the Sierra Club, Trout Unlimited, the Surfrider Foundation, South Coast Audubon, and several private individuals. NMFS has determined that these requests are reasonable, and, therefore, has scheduled a public hearing and is re-opening the public comment period to accommodate the hearing as well as provide sufficient notice of the hearing date and location. During the extended public comment period, NMFS is continuing to solicit any specific information, comments, data, and/or recommendations on any aspect of the December 19, 2000, proposal from all interested parties. In particular, NMFS is requesting information or data as described in the Federal Register document announcing the proposed range extension (see 65 FR 79328). This information is considered important in helping NMFS make a final determination on its proposal.

NMFS will consider all information, comments, and recommendations received during the extended comment period and the public hearing before reaching a final decision on the proposal.

Dated: February 15, 2001.
William T. Hogarth,
Acting Assistant Administrator for Fisheries, National Marine Fisheries Service.

[FR Doc. 01-4290 Filed 2-20-01; 8:45 am]

BILLING CODE 3510-22-S